GENERAL SERVICES ADMINISTRATION

41 CFR Parts 302-4 and 302-9

[FTR Case 2022-03; Docket No. GSA-FTR-2022-0013, Sequence No. 1]

RIN 3090-AK64

Federal Travel Regulation; Alternative Fuel Vehicle Usage During Relocations

AGENCY: Office of Government-Wide Policy (OGP), General Services Administration (GSA).

ACTION: Proposed rule.

SUMMARY: Consistent with the Executive Order (E.O.) on Catalyzing Clean Energy Industries and Jobs Through Federal Sustainability, GSA is proposing to amend the Federal Travel Regulation (FTR) to allow agencies greater flexibility for authorizing shipment of a relocating employee's alternative fuel-based privately-owned vehicle.

DATES: Submit comments in writing on or before May 15, 2023.

ADDRESSES: Submit comments in response to FTR case 2022-03 to: Regulations.gov: https://www.regulations.gov. Submit comments via the Federal eRulemaking portal by searching for “FTR Case 2022-03”. Select the link “Comment Now” that corresponds with FTR Case 2022-03. Follow the instructions provided at the “Comment Now” screen. Please include your name, company name (if any), and “FTR Case 2022-03” on your attached document. If your comment cannot be submitted using https://www.regulations.gov, call or email the points of contact in the FOR FURTHER INFORMATION CONTACT section of this document for alternate instructions.

Instructions: Please submit comments only and cite FTR Case 2022-03, in all correspondence related to this case. Comments received generally will be posted without change to https://www.regulations.gov, including any personal and/or business confidential information provided. To confirm receipt of your comment(s), please check www.regulations.gov, approximately two to three days after submission to verify posting.

FOR FURTHER INFORMATION CONTACT: Mr. Ed Davis, Program Analyst, Office of Government-wide Policy, at 202-669-1653 or travelpolicy@gsa.gov. For information pertaining to status or publication schedules, contact the Regulatory Secretariat Division at 202-501-4755 or GSARegSec@gsa.gov. Please cite “FTR Case 2022-03.”

SUPPLEMENTARY INFORMATION:

I. Background

Consistent with the goals of achieving a carbon pollution-free electricity sector by 2035 and net-zero emissions economy-wide by no later than 2050 as stated in E.O. 14057, Executive Order on Catalyzing Clean Energy Industries and Jobs Through Federal Sustainability, GSA is proposing to amend its relocation policy to apply to privately-owned vehicles (POV) that use alternative fuel, such as electric or hydrogen. As more Federal employees choose to purchase or lease alternative fuel vehicles (AFVs), GSA is proposing the changes to support adoption of these vehicles that reduce greenhouse gas emissions and provide greater flexibilities to ensure employees who own AFVs will not be disadvantaged or inconvenienced in the event they relocate on behalf of the government. Currently, owning an AFV may disadvantage Federal employees when relocating to a new duty station due to limitations that may affect the driving range of these vehicles.

GSA designed current relocation regulations for internal combustion engine (ICE) POVs, which are easily capable of averaging a distance of 300 miles per calendar day during en route travel. This is the distance requirement currently in place in the FTR and is considered the reasonable minimum driving distance per calendar day when a POV is used for permanent change of station en route travel. As technology improves, more AFVs will be able to meet the distance requirements for employees who relocate at the convenience of the government. However, not all current AFVs are able to meet this distance requirement.

By the time an AFV travels 300 miles, it could take longer than a day or require a circuitous route depending on fueling availability along the route to the new permanent duty station. While the Bipartisan Infrastructure Law (Pub. L. 117-58) is designed to spur the development of nearly 500,000 charging stations in 5 years (up from current estimates of 100,000 charging stations), the infrastructure in place today may not meet the needs of the relocating employee with an AFV. One focus of this law is to develop Level 3 charging stations (with a charging rate of under 45 minutes versus the up to 5 hours for a Level 2 station).

While an agency's determination of whether to authorize shipment of an employee's internal combustion engine (ICE) POV is straightforward, the determination for AFVs is not so clear. Currently, an employee must be relocating 600 miles or more for an agency to consider shipping their ICE POV (and then, the employee would use the agency chosen transportation method to reach their destination). Agency considerations for authorization of POV transportation within the continental U.S. (CONUS) largely weigh cost considerations and do not account for the employee's ability to expediently drive their alternative fuel POV to the new permanent duty station if shipment is not authorized.

Many factors need consideration before the agency decides whether to ship a relocating employee's AFV POV or authorize another method of transportation. Agencies should consider the types of fueling stations available and where those stations are located before deciding whether to authorize POV shipment. Information to help with this task can be found at the Department of Energy Alternative Fuels Center (afdc.energy.gov). For example, with electric vehicles, if lower level (slower) charging stations are all that are available en route to a relocation destination, extra time and per diem may need to be authorized for the employee to drive their POV to the new official station (if determined to be advantageous to the Government). Further, agencies would need to consider whether to authorize a different route as officially necessary for the POV to recharge. Currently, hydrogen-powered vehicles are mainly driven in California where the large majority of this type of fueling station exists; limited fueling stations exist outside of the state. Moreover, electric cars have various range capabilities that they can travel after charging, and ranges could be reduced if the car is traveling at highway speeds or in cold weather, among other factors.

In short, this means that agency determination of whether to ship a relocating employee's POV is much more complicated for AFVs than for ICE vehicles. These proposed changes would provide agencies with additional factors to help determine whether or not shipping an employee's AFV is more cost-effective and advantageous to the Government than authorizing the employee to drive their POV to the new official station.

The costs of these changes would be minimal because currently only a small percentage of POVs require alternative fuel (these determinations are not needed for hybrid vehicles that do not plug in as they do not have to use alternative fuel; they can rely solely on gasoline). Although a small but increasing percentage of current relocations involve AFVs and the range capabilities and infrastructure for refueling these vehicles is improving, the rate of future range improvements in AFVs is unknown.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Management and Budget's Office of Information and Regulatory Affairs (OIRA) has determined that this proposed rule will be a significant regulatory action and, therefore, is subject to review under section 6(b) of Executive Order 12866, Regulatory Planning and Review, dated September 30, 1993.

IV. Regulatory Flexibility Act

GSA does not expect this proposed rule to have a significant economic impact on a substantial number of small entities within the meaning of the Regulatory Flexibility Act, 5 U.S.C. 601, et seq., because it applies only to Federal agencies and employees. Therefore, an Initial Regulatory Flexibility Analysis was not performed.

V. Regulatory Impact Analysis

This is a significant regulatory action under E.O. 12866. There are an average of 31,423 domestic and international relocations per year across the Federal Government.¹ However, this data does not differentiate between relocations within CONUS and outside the continental U.S. (OCONUS). This proposed rule only impacts relocations within the CONUS. In order to estimate the number of relocations within the CONUS, GSA subtracted the number of extended storage relocations because those reflect when Federal employees are relocated OCONUS. GSA calculated an average of 8,561 relocations OCONUS per year across the Federal Government. Therefore, GSA calculated a yearly average of 22,862(= 31,423−8,561) relocations within the CONUS.

¹ Business Travel and Relocation Dashboard: https://d2d.gsa.gov/report/business-travel-and-relocation-dashboard.

GSA notes that Federal agencies are not required to track relocation data regarding types of POVs. The estimates used for this economic analysis is based upon a small number of Federal agency inputs and overall U.S. population trends in alternative fuel POVs. GSA received an estimate of 3 percent alternative fuel POVs from across the Federal agencies.

GSA calculated an average of 685(= 22,862 × 0.03) alternative fuel POV relocations per year by taking 3 percent of the average number of domestic relocations, and then estimated $150 in additional shipping cost per vehicle for the first two years.

Therefore, GSA calculated the total estimated annual cost for the first two years to be $102,750 (= 685 vehicles × $150 per vehicle).

GSA received an estimated 1 percent alternative fuel privately owned vehicle ownership increase from across the Federal agencies based upon a small number of Federal agency inputs and overall U.S. population trends in alternative fuel vehicle ownership.

Year | Annual number of EV moves | Additional cost per move | Total annual added cost
1 through 2 | 685 (3 percent of Annual Moves) | $150 | $102,750.
3 through 4 | 691 (Assuming 1.01 percent increase) | 150 | 103,650.
5 through 6 | 697 (Assuming 1.01 percent increase) | 150 | 104,550.
7 through 8 | 703 (Assuming 1.01 percent increase) | 150 | 105,450.
9 through 10 | 710 (Assuming 1.01 percent increase) | 150 | 106,500.
1 through 10 Totals | 6,972 Total Moves | 150 | $1,045,800 Total Cost for 10 Years.

VI. Paperwork Reduction Act

The Paperwork Reduction Act does not apply because the changes to the FTR do not impose recordkeeping or information collection requirements, or the collection of information from offerors, contractors, or members of the public that require the approval of the Office of Management and Budget under 44 U.S.C. 3501, et seq.

List of Subjects in 41 CFR Part 302-4 and 302-9

Government employees, Travel and transportation expenses.

Krystal J. Brumfield,
Associate Administrator, Office of Government-wide Policy, General Services Administration.

For the reasons set forth in the preamble, GSA proposes to amend 41 CFR parts 302-4 and 302-9 as set forth below:

PART 302-4—ALLOWANCES FOR SUBSISTENCE AND TRANSPORTATION

1. The authority citation for part 302-4 continues to read as follows:

Authority: 5 U.S.C. 5738; 20 U.S.C. 905(a); E.O. 11609, 36 FR 13747, 3 CFR, 1971-1975 Comp., p. 586.

2. Amend § 302-4.201 by revising the third sentence to read as follows:

§ 302-4.201 How are my authorized en route travel days and per diem determined for relocation travel?

* * * An exception to the daily minimum driving distance may be made when delay is beyond control of the employee, such as when it results from acts of God or restrictions by Governmental authorities; when the employee is an individual with a disability, as defined by section 501 of the Rehabilitation Act of 1973 and its implementing regulations or has special needs; when the employee's alternative fuel POV cannot meet the daily minimum driving distance due to legitimate vehicle range capability and fueling availability limitations; or for other reasons acceptable to the agency.

3. Revise § 302-4.401 to read as follows:

§ 302-4.401 Are there exceptions to this daily minimum?

Yes, your agency may authorize exceptions to the daily minimum driving distance when there is a delay beyond your control such as acts of God, restrictions by Governmental authorities, other acceptable reasons (e.g., the employee is an individual with a disability or has special needs, or legitimate alternative fuel vehicle range capability and fueling availability limitations). Your agency must have a designated approving official authorize the exception.

4. Revise § 302-4.704 to read as follows:

§ 302-4.704 Must we require a minimum driving distance per day?

Yes, you must establish a minimum driving distance not less than an average of 300 miles per day. However, an exception to the daily minimum driving distance may be made when the delay is:

(a) Beyond control of the employee, e.g., results from acts of God or restrictions by Government authorities;

(b) Due to a disability or special need;

(c) Due to legitimate vehicle range capability and fueling availability limitations of the employee's alternative fuel POV; or

(d) For other reasons acceptable to you.

PART 302-9—ALLOWANCES FOR TRANSPORTATION AND EMERGENCY OR TEMPORARY STORAGE OF A PRIVATELY OWNED VEHICLE

5. The authority citation for part 302-9 continues to read as follows:

Authority: 5 U.S.C. 5737a; 5 U.S.C. 5738; 20 U.S.C. 905(a); E.O. 11609, as amended, 3 CFR 1971-1975 Comp., p. 586.

6. Amend § 302-9.4 by adding a sentence to the end of the section to read as follows:

§ 302-9.4 What are the purposes of the allowance for transportation of a POV?

* * * For example, your agency may determine that it is both advantageous and cost effective to the Government to allow for transportation of an alternative fuel POV which would be impractical to drive a long distance to the new official station due to legitimate vehicle range capability and fueling availability limitations, but has practical use once at the new official station.

7. Amend § 302-9.301 by revising paragraph (e) to read as follows:

§ 302-9.301 Under what conditions may my agency authorize transportation of my POV within CONUS?

* * * * *

(e) The distance that the POV is to be shipped is 600 miles or more. An exception to the 600-mile or more distance requirement may be made for legitimate alternative fuel vehicle range capability and fueling availability limitations.

8. Amend § 302-9.606 by revising paragraph (f) to read as follows:

§ 302-9.606 What must we consider in determining whether transportation of a POV within CONUS is cost effective?

* * * * *

(f) The distance that the POV is to be shipped is 600 miles or more. An exception to the 600-mile distance requirement may be made for legitimate alternative fuel vehicle range capability and fueling availability limitations.

[FR Doc. 2023-04819 Filed 3-13-23; 8:45 am]

BILLING CODE 6820-14-P